DEPARTMENT OF EDUCATION

Financial Value Transparency and Gainful Employment: Earnings Thresholds for Calculation Year 2024

AGENCY: Office of Postsecondary Education, Department of Education.

ACTION: Notice.

SUMMARY: The Secretary announces the annual earnings thresholds used to calculate the earnings premium (EP) measure as part of the Financial Value Transparency and Gainful Employment (FVT/GE) regulations.

SUPPLEMENTARY INFORMATION: On October 10, 2023, the U.S. Department of Education (Department) published final regulations on Financial Value Transparency (FVT) and Gainful Employment (GE), which became effective July 1, 2024 (88 FR 70004). These regulations, in part, establish an annually-calculated EP measure, which compares the median annual earnings of students completing an educational program at an eligible institution to a specified earnings threshold.

This earnings threshold, as defined in 34 CFR 668.2, is based on data from the U.S. Census Bureau and is calculated as the median earnings for working adults aged 25-34 who either worked during the year or indicated they were unemployed when interviewed, with only a high school diploma (or recognized equivalent) in (1) the State in which the institution is located or (2) nationally, if fewer than 50 percent of the students in the program are from the State where the institution is located, or if the institution is a foreign institution. Under 34 CFR 668.404(a), the Secretary uses the appropriate earnings threshold under the definition to determine if an educational program passes the EP measure. A program passes the EP measure by demonstrating that the median earnings for program graduates exceed the appropriate State or national earnings threshold.¹

¹ Institutions with main campuses located in a U.S. Territory or the Freely Associated States do not receive a calculation of the EP measure for their educational programs. Therefore, this table only includes the 50 states, the District of Columbia, and a national earnings threshold.

As required by 34 CFR 668.404(b)(3), the following table lists the earnings thresholds for each State and the District of Columbia, as well as the national threshold. The earnings thresholds published in this notice apply to EP measure results for calculation year 2024: ²

² These earnings thresholds are derived from the 2022 American Community Survey 5-Year Estimates Public Use Microdata Sample from the U.S. Census Bureau.

State | Median earnings (whole dollars)
Alabama | 27,836
Alaska | 35,457
Arizona | 32,284
Arkansas | 28,502
California | 32,476
Colorado | 35,571
Connecticut | 33,286
Delaware | 31,316
District of Columbia | 32,592
Florida | 29,609
Georgia | 29,609
Hawaii | 34,203
Idaho | 33,397
Illinois | 30,793
Indiana | 31,316
Iowa | 34,203
Kansas | 30,782
Kentucky | 28,996
Louisiana | 28,996
Maine | 32,311
Maryland | 33,397
Massachusetts | 35,438
Michigan | 28,996
Minnesota | 34,795
Mississippi | 27,362
Missouri | 30,156
Montana | 30,058
Nebraska | 31,316
Nevada | 33,172
New Hampshire | 37,850
New Jersey | 32,832
New Mexico | 27,836
New York | 30,793
North Carolina | 29,344
North Dakota | 34,203
Ohio | 30,793
Oklahoma | 29,810
Oregon | 31,695
Pennsylvania | 31,727
Rhode Island | 34,203
South Carolina | 30,156
South Dakota | 31,385
Tennessee | 29,609
Texas | 31,171
Utah | 34,795
Vermont | 33,397
Virginia | 33,043
Washington | 35,027
West Virginia | 28,996
Wisconsin | 33,397
Wyoming | 36,480
United States (national earnings threshold) | 31,269

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site, you can view this document, as well as all other Department documents published in the Federal Register, in text or Portable Document Format (PDF). To use PDF, you must have Adobe Acrobat Reader, which is available free at this site.

You may also access Department documents published in the Federal Register by using the article search feature at www.federalregister.gov. Specifically, through the advanced search feature at this site, you can limit your search to documents published by the Department.

Program Authority: 34 CFR 668.2 and 34 CFR part 668 subpart Q.

Nasser Paydar,
Assistant Secretary for the Office of Postsecondary Education.

[FR Doc. 2024-31271 Filed 12-30-24; 8:45 am]

BILLING CODE 4000-01-P